DEPARTMENT OF THE INTERIOR

Bureau of Land Management

[AZ-030-3130 EU; AZA-29652]

Notice of Realty Action Direct Sale of Public Lands in Mohave County, Arizona

AGENCY: Bureau of Land Management, Interior.

ACTION: Notice of realty action, direct sale.

SUMMARY: The following public lands have been found suitable for a direct sale under Section 214 of the Federal Land Policy and Management Act of 1976 (90 Stat. 2750; 43 U.S.C. 1713), at not less than the estimated fair market value of $1,000. The land will not be offered for sale for at least 60 days after the date of this notice.

T. 24 N., R. 13 W., Gila and Salt River Meridian, Arizona

Section 34: E½E½NE¼SE¼NW¼, Consisting of 1.25 acres.

The land described above is hereby segregated from appropriation under the public land laws including the mining laws, pending disposition of this action 270 days from the date of publication of this notice, whichever occurs first.

This land will be offered to a private landowner due to the need to resolve an inadvertent unauthorized use or occupancy of the lands, and must be for not less than the appraised value specified above.

The private landowner will make an application for conveyance of those mineral interests offered under the authority of Section 209(b) of the Federal Land Policy and Management Act of 1976 (90 Stat. 2757; 43 U.S.C. 1719). A nonrefundable fee of $50 will be required from the private landowner for purchase of the mineral interests. Those mineral interests to be conveyed simultaneously with the sale of the land have been determined to have no known mineral value.

The conveyance document, when issued, will contain certain reservations to the United States and will be subject to any existing rights-of-way and any other valid existing rights. Detailed information concerning this sale is available for review at the Kingman Field Office, U.S. Bureau of Land Management, 2475 Beverly Avenue, Kingman, Arizona 86401, (520) 692-4416.

For a period of 45 days from the date of publication of this notice in the Federal Register, interested parties may submit comments to the Field Manager, Kingman Field Office, at the above address. In the absence of timely objections, this proposal shall become the final determination of the Department of the Interior.

Dated: February 22, 2001.
John Christensen,
Field Manager, Kingman Field Office.

[FR Doc. 01-5361 Filed 3-5-01; 8:45 am]

BILLING CODE 4310-32-U